DEPARTMENT OF DEFENSE

Office of the Secretary

[Docket ID: DoD-2013-OS-0173]

Proposed Collection; Comment Request

AGENCY: Defense Threat Reduction Agency, DoD.

ACTION: Notice.

In compliance with Section 3506(c)(2)(A) of the Paperwork Reduction Act of 1995, Defense Threat Reduction Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 21, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Defense Threat Reduction Agency 8725 John J Kingman Rd Stop 6201, Fort Belvoir, VA 22060-6201 Reach Back Software Distribution Center at (703) 767-3419.

Title; Associated Form; and OMB Number: Web interface for DTRA/SCC-WMD Modeling and Simulation Tool Forms OMB Control 0704-TBD.

Needs and Uses: The information collection requirement is necessary to obtain and record the dissemination of research and development chemical, biological, radiological and nuclear modeling and simulation tools used by Federally Funded Academic Research and Development, Contractors, DoD, Federal, State, and Local First responders. The information is also used to vet, track, approve, and ensure compliance of foreign disclosure agreements used in research and development.

Affected Public: Consumers/users of Defense Threat Reduction Agency tools. This is a very narrow customer base composed of Federally Funded Academic Research and Development, Contractor, DoD, Federal, State and Local First responders

Annual Burden Hours: 27.5 hours.

Number of Respondents: 110 annual.

Responses per Respondent: 1.

Average Burden per Response: 15 minutes.

Frequency: On occasion.

SUPPLEMENTARY INFORMATION:

Summary of Information Collection

The information is entered into a web-interface database for CAC holders and electronic form submissions for non-CAC holders and is used to track and approve tool dissemination, meteorological access and training requests on research and development scientific modeling and simulation tools. This is a very narrow customer base composed of Federally Funded Academic Research and Development, Contractor, DoD, Federal, State and Local First responders. The tools are used to calculate risk, plans responses, and model first and second order of natural or man-made effects/events.

Dated: August 14, 2013.
Aaron Siegel,
Alternate OSD Federal Register Liaison Officer, Department of Defense.

[FR Doc. 2013-20184 Filed 8-19-13; 8:45 am]

BILLING CODE 5001-06-P